DEPARTMENT OF TRANSPORTATION

Federal Highway Administration

Notice of Final Federal Agency Actions on East Lake Sammamish Master Plan Trail in King County, WA

AGENCY: Federal Highway Administration (FHWA), DOT.

ACTION: Notice of Limitation on Claims for Judicial Review of Actions by FHWA and Other Federal Agencies.

SUMMARY: This notice announces actions taken by FHWA and other Federal agencies that are final within the meaning of 23 U.S.C. 139(l)(1). The actions relate to a proposed transportation enhancement project, the East Lake Sammamish Trail, starting at Gilman Boulevard in Issaquah, Washington and ending at Bear Creek Trail in Redmond, Washington. Those actions grant licenses, permits, and approvals for the project.

DATES: By this notice, FHWA is advising the public of final agency actions subject to 23 U.S.C. 139(l)(1). A claim seeking judicial review of the Federal agency actions on the transportation project will be barred unless the claim is filed on or before February 28, 2011. If the Federal law that authorizes judicial review of a claim provides a time period of less than 180 days for filing such claim, then that shorter time period still applies.

FOR FURTHER INFORMATION CONTACT: For FHWA: Mr. Pete Jilek, Area Engineer, Federal Highway Administration, 711 S. Capital Way, Suite 501, Olympia, WA 98501; telephone 360-753-9480; e-mail pete.jilek@dot.gov. The FHWA Washington Division Office's normal business hours are 7 a.m. to 4:30 p.m. (Pacific time).

SUPPLEMENTARY INFORMATION: Notice is hereby given FHWA and other Federal agencies have taken final agency actions subject to 23 U.S.C. 139(l)(1) by issuing licenses, permits, and approvals for the following transportation project in the State of Washington: East Lake Sammamish Trail along the east side of Lake Sammamish from Gilman Boulevard in Issaquah, WA to Bear Creek Trail in Redmond, WA. The project will be an approximately 11-mile-long paved trail, providing an alternative non-motorized transportation corridor and recreational trail. The actions by the Federal agencies, and the laws under which such actions were taken, are described in the Final Environmental Impact Statement (FEIS) for the project, approved on April 20, 2010, in the FHWA Record of Decision (ROD) issued on August 4, and in other documents in the FHWA project records. The FEIS, ROD, and other project records are available by contacting FHWA at the addresses provided above. The FHWA FEIS and ROD can be viewed and downloaded from the project Web site at http://www.kingcounty.gov/eastlakesammamishtrail, or viewed at public libraries in the project area.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Land: Section 4(f) of the Department of Transportation Act of 1966 [49 U.S.C. 303].

3. Wildlife: Endangered Species Act [16 U.S.C. 1531-1544 and Section 1536].

4. Historic and Cultural Resources: Section 106 of the National Historic Preservation Act of 1966, as amended [16 U.S.C. 470(f) et seq.].

(Catalog of Federal Domestic Assistance Program Number 20.205, Highway Planning and Construction. The regulations implementing Executive Order 12372 regarding intergovernmental consultation on Federal programs and activities apply to this program.)

Authority: 23 U.S.C. 139(l)(1).

Issued on: August 26, 2010.
Peter A. Jilek,
Urban Area Engineer, Federal Highway Administration.

[FR Doc. 2010-21804 Filed 8-31-10; 8:45 am]

BILLING CODE 4910-RY-P